DEPARTMENT OF THE INTERIOR

Bureau of Indian Affairs

Notice of Availability of a Draft Environmental Impact Statement for a Drought Management Plan for Operation of the Kerr Hydroelectric Project, Flathead Lake, MT

AGENCY: Bureau of Indian Affairs, Interior.

ACTION: Notice of availability and public hearings.

SUMMARY: The Bureau of Indian Affairs (BIA) announces the availability of a draft Environmental Impact Statement (EIS) for a drought management plan for the operation of the Kerr Hydroelectric Project, Flathead Lake, Montana. In addition to mailing the draft EIS to cooperating agencies and those who previously requested the document, the BIA has made the draft EIS available at the Polson City Library, 2 First Avenue East, Polson, Montana, and the Flathead County Library, 247 First Avenue East, Kalispell, Montana. Additionally, the draft EIS may be obtained on the following Web site: http://www.flatheadlake-eis.com. The purpose of this notice is to inform the public, other Federal agencies, tribal, State, and local governments, organizations and businesses of the availability of the draft EIS and to announce public hearings to discuss the draft EIS.

DATES: Comments on the draft EIS must be received by September 29, 2006. The hearing dates and locations are:

1. August 29, 2006, 6:30 p.m. to 9:30 p.m., Red Lion Inn, 20 North Main Street, Kalispell, Montana.

2. August 30, 2006, 6:30 p.m. to 9:30 p.m., Polson City Library, Community Meeting Room, 2 First Avenue East, Polson, Montana.

ADDRESSES: Mail or hand deliver written comments to Jeffery Loman, Chief, Natural Resources Division, Office of Trust Services, Bureau of Indian Affairs, Mail Stop 4655-MIB, 1849 C Street, NW., Washington, DC 20240. You may also fax comments to Chief, Natural Resources, (202) 219-0006 or (202) 219-1255.

FOR FURTHER INFORMATION CONTACT: Jeffery Loman, Chief, Natural Resources Division, (202) 208-7373 or (202) 903-8295.

SUPPLEMENTARY INFORMATION: Flathead Lake is the largest natural fresh water lake in the western United States. It is home to the Confederated Salish and Kootenai Tribes of the Flathead Nation, whose reservation encompasses an area including approximately the southern half of Flathead Lake. Flathead Lake is regulated by the operation of Kerr Dam, located at River Mile 72.0 at Polson, Montana. The Kerr Dam and Hydroelectric Project are located within the exterior boundaries of the Flathead Indian Reservation. The Project operates under a joint license issued by the Federal Energy Regulatory Commission on July 17, 1985 to PPL Montana, LLC, successor-in-interest to the Montana Power Company and current operator of the Kerr Project, and the Confederated Salish and Kootenai Tribes. The license has been amended several times since initial issuance.

Section 4(e) of the Federal Power Act authorizes the Secretary of the Interior to include conditions in hydropower licenses for the protection and utilization of Indian reservations. Pursuant to this authority, the Secretary required that certain articles be included in the Kerr Project license for the protection and utilization of the Flathead Indian Reservation. Among these is license Article 56, which requires minimum instream flow rates for the protection of fisheries and other resources in the Lower Flathead River below Kerr Dam. In addition to the Secretary's section 4(e) conditions, Article 43 of the Kerr Project license requires the operator to regulate Flathead Lake in accordance with a 1962 Memorandum of Understanding, as amended in 1965, between the Montana Power Company and the U.S. Army Corps of Engineers. The purposes behind the MOU include providing for flood control by drawing down Flathead Lake every spring, and supporting recreation, tourism and associated activities on Flathead Lake by refilling the lake in time for the summer season.

During low-water years, there may be an insufficient volume of water to achieve Article 43 lake levels while maintaining the minimum instream flow requirements of Article 56. Accordingly, the Secretary also included Article 60 in the Project license, which requires that the licensees develop and implement a drought management plan in consultation with the U.S. Army Corps of Engineers, U.S. Bureau of Reclamation, Bureau of Indian Affairs, and Montana Department of Environmental Quality. Article 60 further requires that the drought management plan include a re-evaluation and adjustment of flood control requirements and other provisions necessary for compliance with lower Flathead River minimum instream flow mandates.

Pursuant to Article 60, PPL Montana submitted a proposed drought management plan to the Secretary of the Interior on March 4, 2002. Under Article 60, the Secretary has the authority to reject, modify, or otherwise alter the proposed drought management plan. The Secretary determined that the decision on the proposed drought management plan constitutes a major federal action that could significantly affect the quality of the human environment. The National Environmental Policy Act therefore requires preparation of an EIS. PPL Montana's plan serves as the proposed action in the EIS.

The Bureau of Indian Affairs was delegated the responsibility to serve as the Lead Agency for NEPA compliance in connection with the proposed drought management plan. On June 20, 2002, BIA published a Notice of Intent in the Federal Register (67 FR 42054) informing agencies and the public of BIA's intent to gather information necessary to prepare an EIS for the proposed drought management plan and initiating the formal scoping process (See Appendix A). The Notice of Intent encouraged comments and participation in the scoping process and included meeting dates, times, and locations. BIA held a series of public meetings and workshops in Kalispell, Charlo and Polson, Montana, on July 9-10, 2002, August 27-28, 2002, and October 22-23, 2002.

The drought management plan ultimately approved by the Secretary will govern how the Kerr Project licensees will prepare for and operate the Project during a drought and will benefit the public by providing information regarding the operation of the Kerr Project in drought conditions. The NEPA process will allow the Secretary of the Interior to issue a Record of Decision selecting an alternative regarding a drought management plan. Issues addressed in the environmental analysis include, but are not limited to, hydroelectric power production, recreation, tourism, irrigation, treaty-protected fisheries, biological resources, wildlife habitat, and Indian traditional and cultural properties and resources. Alternatives to the proposed drought management plan examined in the EIS include a variety of measures, such as adjustments to flood control rule curves, implementation of advanced climate prediction initiatives, and deviation from minimum instream flow requirements. The range of environmental issues and alternatives was developed through comments received during the scoping process, including the public scoping meetings and workshops held in Montana.

Authority

This notice is published in accordance with section 1503.1, Council on Environmental Quality Regulations (40 CFR parts 1500 through 1508) implementing the procedural requirements of the National Environmental Policy Act of 1969, as amended (42 U.S.C. 4321 et seq.), and the Department of the Interior Manual (516 DM 1.6) and is within the exercise of authority delegated to the Principal Deputy Assistant Secretary—Indian Affairs by 209 DM 8.

Dated: July 19, 2006.
Michael D. Olsen,
Principal Deputy Assistant Secretary—Indian Affairs.

[FR Doc. E6-11936 Filed 7-25-06; 8:45 am]

BILLING CODE 4310-W7-P